Proclamation 10662 of October 31, 2023

National Alzheimer's Disease Awareness Month, 2023

By the President of the United States of America

A Proclamation

Over six million Americans live with Alzheimer's disease, a form of dementia that deprives people of their precious memories, thoughts, and identity. During National Alzheimer's Disease Awareness Month, we honor the extraordinary courage, strength, and resilience of people facing this devastating disease. We recognize the support of families and caregivers who stand by their loved one's side and help them age with dignity. We resolve to continue advancing scientific research and treatment options to ensure a brighter future for all Americans facing Alzheimer's.

Today, Alzheimer's remains a leading cause of death in older adults. It exacts an emotional, physical, and financial toll on the entire family of those who are diagnosed—especially for African Americans and Latinos, who are more likely to develop dementias than any other races or ethnicities, and for individuals with Down syndrome, who are at higher risk for Alzheimer's. My Administration has taken numerous actions to help treat and prevent this terrible disease. We worked with the Congress to secure $2.5 billion in bipartisan funding for the Advanced Research Projects Agency for Health (ARPA-H). This agency is developing critical breakthroughs in preventing, diagnosing, and treating Alzheimer's and other deadly diseases and pioneering partnerships to get those breakthroughs out to clinics and patients.

Earlier this year, the Food and Drug Administration granted the first-ever approval for a prescription drug that can alter the course of Alzheimer's in some people, rather than simply treat symptoms—a sign of hope to so many patients and families affected by this disease. In addition, I was proud to sign an Executive Order on Increasing Access to High-Quality Care and Supporting Caregivers. As a result, the Centers for Medicare and Medicaid Services (CMS) announced a groundbreaking model that will offer a comprehensive package for care management and coordination for people living with Alzheimer's and related dementias, caregiver support and education, and respite services. Meanwhile, CMS continues to offer services that help people access cognitive care assessments, ensuring that those with Alzheimer's receive the care they need. In addition, the Centers for Disease Control and Prevention is creating a uniform national public health infrastructure focused on increasing early detection and diagnosis of Alzheimer's disease and related dementias, reducing dementia risk, preventing avoidable hospitalizations, and supporting caregivers of those living with dementia.

This November, let us honor the memory of those we have tragically lost to Alzheimer's. Let us recognize the millions of Americans who are living with the impact of this condition every day and all the incredible caregivers, doctors, researchers, and advocates supporting them. Let us come together as a Nation; carry forward a spirit of hope; and recommit to doing everything we can to prevent, treat, and eliminate this disease.

NOW, THEREFORE, I, JOSEPH R. BIDEN JR., President of the United States of America, by virtue of the authority vested in me by the Constitution and the laws of the United States, do hereby proclaim November 2023 as National Alzheimer's Disease Awareness Month. I call on the people of the United States of America to honor and support those living with Alzheimer's and the many people who continue extraordinary and tireless efforts to combat this disorder. I encourage all Americans to visit www.Alzheimers.gov for evidence-based resources and information.

IN WITNESS WHEREOF, I have hereunto set my hand this thirty-first day of October, in the year of our Lord two thousand twenty-three, and of the Independence of the United States of America the two hundred and forty-eighth.

[FR Doc. 2023-24488

Filed 11-2-23; 8:45 am]

Billing code 3395-F4-P